FEDERAL COMMUNICATIONS COMMISSION

47 CFR Part 73

[DA 00-2603, MM Docket No. 00-6, RM-9791, RM-9890]

Radio Broadcasting Services; McCook, Alliance, Imperial, NE, Limon, Parker, Aspen, Avon, Westcliffe, CO

AGENCY: Federal Communications Commission.

ACTION: Proposed rule.

SUMMARY: The Commission, in response to the counterproposal of The Meadowlark Group, permittee of Station KAVD(FM), Limon, CO, requesting the substitution of Channel 276C for Channel 276C1, its reallotment to Parker, CO, as the community's first local aural service, and the modification of Station KAVD's permit accordingly, issues an Order to Show Cause to Halstead Communications, licensee of Station KPNY, Channel 271C1, Alliance, NE, as to why its license should not be modified to specify operation on Channel 263C1 and to Imperial Media Association, permittee of a new station on Channel 275C, Imperial, NE, as to why its permit should not be modified to specify operation on Channel 271C. The counterproposal was filed in response to the proposed allotment of Channel 271C1 to McCook, NE. See 65 FR 4798, February 1, 2000.

DATES: Comments must be filed on or before January 8, 2001, and reply comments must be filed on or before January 23, 2001.

ADDRESSES: Federal Communications Commission, 445 12th Street, S.W., Room TW-A325, Washington, DC 20554.

FOR FURTHER INFORMATION CONTACT: Leslie K. Shapiro, Mass Media Bureau, (202) 418-2180.

SUPPLEMENTARY INFORMATION: The Commission proposes the following channel changes to accommodate the allotment of Channel 276C to Parker, CO, at coordinates 39-26-08 NL; 104-02-05 WL, or alternatively, to Limon, CO, at coordinates 39-25-27 NL; 104-00-38 WL: (1) The substitution of Channel 249C2 for Channel 276C2 at Avon, CO, at coordinates 39-37-52 NL; 106-27-42 WL, and modify the license of Station KZYR; (2) substitute Channel 276C3 for Channel 249C3 at Aspen, CO, at coordinates 39-13-33 NL; 106-50-00 WL, and modify the license of Station KSPN-FM; (3) substitute Channel 227A for vacant Channel 276A at Westcliffe, CO, at coordinates 38-04-28 NL; 105-32-13 WL; (4) substitute Channel 263C1 for Channel 271C1 at Alliance, NE, at coordinates 42-07-01 NL; 103-07-09 WL, and modify the license of Station KPNY; (5) substitute Channel 271C for Channel 275C at Imperial, NE, at coordinates 40-45-31 NL; 101-54-32 WL, and modify the construction permit of Imperial Media Association (BPH-19970924ML); allot Channel 275C1 to McCook, NE, at coordinates 40-12-00 NL; 100-51-25 WL. This is a synopsis of the Commission's Order to Show Cause, MM Docket No. 00-6, adopted November 8, 2000, and released November 17, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under Colorado, is amended by adding Channel 276C3 and removing Channel 249C3 at Aspen, adding Channel 249C2 and removing Channel 276C2 at Avon, adding Channel 227A and removing Channel 276A at Westcliffe, adding Channel 276C and removing Channel 276C1 at Limon. Alternatively, remove Channel 276C1 at Limon and add Parker, Channel 276C.

3. Section 73.202(b), the Table of FM Allotments under Nebraska, is amended by adding Channel 263C1 and removing Channel 271C1 at Alliance, adding Channel 275C1 at McCook, and by adding Channel 271C and removing Channel 275C at Imperial.

Federal Communications Commission.
John A. Karousos,
Chief, Allocations Branch, Policy and Rules Division, Mass Media Bureau.

[FR Doc. 00-31311 Filed 12-15-00; 8:45 am]

BILLING CODE 6712-01-U